DEPARTMENT OF COMMERCE

Foreign-Trade Zones Board

[Docket 30-2010]

Foreign-Trade Zone 5—Seattle, WA; Application for Reorganization/Expansion Under Alternative Site Framework

An application has been submitted to the Foreign-Trade Zones (FTZ) Board (the Board) by the Port of Seattle, grantee of FTZ 5, requesting authority to reorganize and expand the zone under the alternative site framework (ASF) adopted by the Board (74 FR 1170, 1/12/09; correction 74 FR 3987, 1/22/09). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on April 29, 2010.

FTZ 5 was approved by the Board on June 27, 1949 (Board Order 19, 14 FR 3686, 07/02/49) and had the boundaries modified on January 19, 1953 (Board Order 31, 18 FR 556, 01/24/53). FTZ 5 was relocated on February 27, 1959 (Board Order 48, 24 FR 1686, 03/06/59), on August 14, 1964 (Board Order 63, 29 FR 11987, 08/21/64), and on August 25, 1976 (Board Order 111, 41 FR 36847, 09/01/76). FTZ 5 was expanded on September 25, 1989 (Board Order 432, 54 FR 40154, 09/29/89).

The current zone project includes the following sites: Site 1 (955 acres)—Port of Seattle Seaport, 2711 Alaskan Way, Seattle; Site 2 (436.68 acres)—Seattle/Tacoma International Airport, 17801 International Boulevard, Seattle; Site 3 (0.45 acres)—9875 40th Avenue South, Seattle, and Site 4 (2.75 acres)—20607 59th Place South, Kent.

The grantee's proposed service area under the ASF would be the Washington counties of King and Snohomish (dependent on case-by-case concurrence from the Port of Everett for the latter county), as described in the application. If approved, the grantee would be able to serve sites throughout the service area based on companies' needs for FTZ designation. The proposed service area is within and adjacent to the Puget Sound Customs and Border Protection port of entry.

The applicant is requesting authority to reorganize its existing zone project to include existing sites 1, 2 and 4 as “magnet” sites and existing Site 3 as a “usage-driven” site. The ASF allows for the possible exemption of one magnet site from the “sunset” time limits that generally apply to sites under the ASF, and the applicant proposes that Site 1 be so exempted. The applicant is also requesting approval of the following initial “usage-driven” site: Proposed Site 5 (3.84 acres)—Wilson Sporting Goods/Precor Incorporated, 6617 Associated Boulevard, Everett, WA.

In accordance with the Board's regulations, Christopher Kemp of the FTZ Staff is designated examiner to evaluate and analyze the facts and information presented in the application and case record and to report findings and recommendations to the Board.

Public comment is invited from interested parties. Submissions (original and 3 copies) shall be addressed to the Board's Executive Secretary at the address below. The closing period for their receipt is July 6, 2010. Rebuttal comments in response to material submitted during the foregoing period may be submitted during the subsequent 15-day period to July 19, 2010.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz. For further information, contact Christopher Kemp at Christopher.Kemp@trade.gov or (202) 482-0862.

Dated: April 29, 2010.
Andrew McGilvray,
Executive Secretary.

[FR Doc. 2010-10612 Filed 5-4-10; 8:45 am]

BILLING CODE P